DEPARTMENT OF HOMELAND SECURITY

Coast Guard

33 CFR Part 165

[CGD13-06-019]

RIN 1625-AA00

Security and Safety Zone: Protection of Large Passenger Vessels, Portland, OR

AGENCY: Coast Guard, DHS.

ACTION: Notice of enforcement.

SUMMARY: The Captain of the Port Portland, Oregon will begin, on April 23, 2006, enforcing a small area of the greater Large Passenger Vessel Security and Safety Zones that were published in the Federal Register on September 12, 2003. The zones provide for the security and safety of large passenger vessels in the navigable waters of Captain of the Port Portland, Oregon zone and adjacent waters. These security and safety zones will be enforced for passenger cruise ships only and only from the mouth of the Columbia River at buoy 14 upriver to, and including, Astoria, Oregon until October 31, 2006.

DATES: This notice of enforcement for 33 CFR 165.1318 will be effective from April 23, 2006 to October 31, 2006, at which time the enforcement of this rule will be suspended without further notice.

FOR FURTHER INFORMATION CONTACT: Petty Officer Christopher Lumpkin, c/o Captain of the Port Portland, OR, 6767 North Basin Avenue, Portland, OR 97217 at (503) 240-9301 to obtain information concerning enforcement of this rule.

SUPPLEMENTARY INFORMATION: On September 12, 2003, the Coast Guard published a final rule (68 FR 53677) establishing regulations in 33 CFR 165.1318 for the security and safety of large passenger vessels in the navigable waters of Portland, OR and adjacent waters of Oregon and Washington. These security and safety zones provide for the regulation of vessel traffic in the vicinity of certain large passenger vessels (as defined in § 165.1318(b)) and exclude persons and vessels from the immediate vicinity of these large passenger vessels.

On April 23, 2006, for passenger cruise ships only, the Captain of the Port Portland, Oregon will begin enforcing only the area of the Large Passenger Vessel Safety and Security Zones, established in 33 CFR 165.1318, from the mouth of the Columbia River at buoy 14 upriver to, and including, Astoria, OR. Entry into these zones is prohibited unless otherwise exempted or excluded under the final rule or unless authorized by the Captain of the Port or his designee. The Captain of the Port may be assisted by other Federal, State, or local agencies in enforcing these zones. These security and safety zones will be enforced until October 31, 2006, at which time the enforcement of this rule will be suspended without further notice.

Dated: April 26, 2006.
Patrick G. Gerrity,
Captain, U.S. Coast Guard, Captain of the Port, Portland, OR.

[FR Doc. 06-4275 Filed 5-4-06; 8:45 am]

BILLING CODE 4910-15-P